NUCLEAR REGULATORY COMMISSION

[NRC-2009-0568]

Notice of Extension of Comment Period for NUREG-1934, Nuclear Power Plant Fire Modeling Application Guide (NPP FIRE MAG), Draft Report for Comment

AGENCY: Nuclear Regulatory Commission.

ACTION: Notice of extension of comment period.

SUMMARY: The Nuclear Regulatory Commission (NRC) published a notice of opportunity for public comment on “NUREG-1934 (EPRI 1019195), Nuclear Power Plant Fire Modeling Application Guide (NPP FIRE MAG), Draft Report for Comment” in the Federal Register (74 FR 68873) on December 29, 2009. Issues encountered during the holiday season delayed publication of NUREG-1934. In addition, the final document has been revised to correct some editorial issues resulting from the conversion to a pdf file.

DATES: The public comment period was to end on March 10, 2010. This notice announces an extension of the public comment period until April 30, 2010. Comments received after this date will be considered if it is practical to do so, but the NRC staff is able to ensure consideration only for comments received on or before this date.

ADDRESSES: You may submit comments by any one of the following methods. Please include Docket ID NRC-2009-0568 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and, therefore, they should not include any information in their comments that they do not want publicly disclosed.

Federal Rulemaking Web site: Go to http://www.regulations.gov and search for documents filed under Docket ID NRC-2009-0568. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied, for a fee, publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. NUREG-1934 “Nuclear Power Plant Fire Modeling Application Guide (NPP FIRE MAG)” is available electronically under ADAMS Accession Number ML093500187. Electronic copies are also available through the NRC's public Web site under Drafts for Comment in the NUREG-series Publications collection of the NRC's Electronic Reading Room at http://www.nrc.gov/reading-rm/doc-collections/.

Federal Rulemaking Web site: Public comments and supporting materials related to this notice can be found at http://www.regulations.gov by searching on Docket ID: NRC-2009-0568.

FOR FURTHER INFORMATION CONTACT: David Stroup, Division of Risk Analysis, Office of Nuclear Regulatory Research, U.S. Nuclear Regulatory Commission, Washington, DC 20555-0001. Telephone: 301-251-7609, e-mail: David.Stroup@nrc.gov.

SUPPLEMENTARY INFORMATION: There is a movement to introduce risk-informed and performance-based (RI/PB) analyses into fire protection engineering practice. This movement exists in both the general fire protection and the nuclear power plant (NPP) fire protection communities. The U.S. Nuclear Regulatory Commission (NRC) has used risk-informed insights as a part of its regulatory decision making since the 1990s. In 2002, the National Fire Protection Association developed NFPA 805, Performance-Based Standard for Fire Protection for Light-Water Reactor Electric Generating Plants. In July 2004, the NRC amended its fire protection requirements in Title 10, Section 50.48, of the Code of Federal Regulations to permit existing reactor licensees to voluntarily adopt fire protection requirements contained in NFPA 805 as an alternative to the existing deterministic requirements. NUREG-1934 (EPRI 1019195), “Nuclear Power Plant Fire Modeling Application Guide, Draft Report for Comment” was written as a collaborative effort by the U.S. Nuclear Regulatory Commission (NRC) Office of Nuclear Regulatory Research (RES), the Electric Power Research Institute (EPRI), and the National Institute of Standards and Technology (NIST) to provide guidance on using fire modeling for nuclear power plant applications. The features and limitations of the five fire models documented in NUREG-1824 (EPRI 1011999), Verification & Validation of Selected Fire Models for Nuclear Power Plant Applications are discussed relative to NPP applications. Finally, the report describes the implications of verified and validated (V&V) fire models that can reliably predict the consequences of fires.

Dated at Rockville, Maryland, this 27th day of January 2010.
For the Nuclear Regulatory Commission.
Mark H. Salley,
Chief, Fire Research Branch, Division of Risk Analysis, Office of Nuclear Regulatory Research.

[FR Doc. 2010-2168 Filed 2-1-10; 8:45 am]

BILLING CODE 7590-01-P